DEPARTMENT OF HEALTH AND HUMAN SERVICES

National Institutes of Health

Eunice Kennedy Shriver National Institute of Child Health & Human Development; Amended Notice of Meeting

Notice is hereby given of a change in the meeting of the National Advisory Board on Medical Rehabilitation Research. May 4, 2020, 10:00 a.m. to 2:00 p.m., National Institute of Child Health & Human Development, 6710B Rockledge Drive, Room 1425/1427, Bethesda, MD 20892 (Virtual Meeting) which was published in the Federal Register on April 16, 2020, 85 FR 74.

The meeting of the National Advisory Board on Medical Rehabilitation Research the has been cancelled for May 4, 2020. The May 4, 2020 meeting of the National Advisory Board on Medical Rehabilitation Research will be rescheduled for a later date.

Dated: April 21, 2020.
Ronald J. Livingston, Jr.,
Program Analyst, Office of Federal Advisory Committee Policy.

[FR Doc. 2020-08776 Filed 4-23-20; 8:45 am]

BILLING CODE 4140-01-P